DEPARTMENT OF TRANSPORTATION

Federal Motor Carrier Safety Administration

[Docket No. FMCSA-2017-0040]

Qualification of Drivers; Exemption Applications; Diabetes

AGENCY: Federal Motor Carrier Safety Administration (FMCSA), DOT.

ACTION: Notice of denials.

SUMMARY: FMCSA announces its denial of 111 applications from individuals who requested an exemption from the Federal diabetes standard applicable to interstate truck and bus drivers and the reasons for the denials. FMCSA has statutory authority to exempt individuals from the diabetes requirement if the exemptions granted will not compromise safety. The Agency has concluded that granting these exemptions does not provide a level of safety that will be equivalent to, or greater than, the level of safety maintained without the exemptions for these commercial motor vehicle (CMV) drivers.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal diabetes standard for a renewable two year period if it finds “such an exemption would likely achieve a level of safety that is equivalent to, or greater than, the level that would be achieved absent such an exemption.” The procedures for requesting an exemption are set forth in 49 CFR part 381.

Accordingly, FMCSA evaluated 111 individual exemption requests on their merits and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 17 applicants met the diabetes requirements of 49 CFR 391.41(b)(3) and do not need an exemption:

Javier V. Alonso (CA)

Gerald G. Blacklock (PA)

Nakoo S. Bridgemohan (NY)

Ruben Camacho Nunez (WA)

Norman P. Day, Jr. (NE)

James F. Deig (TX)

Mehmed Dogdic (GA)

Charles P. Doss (AL)

Antonio Hernandez-Mejia (NJ)

Anthony Juarez (NM)

John D. Ladik (PA)

Rickey A. Mills (IA)

Richard W. Shawley (PA)

Randall D. Shiflett (WV)

Hector R. Taveras (NJ)

Javier Vasquez (CA)

James W. Wickham (WA)

The following 43 applicants were not operating CMVs in interstate commerce:

Vincete N. Beltran (CA)

John J. Blankenship (IL)

James W. Brennan (CT)

John C. Bushendorf (WI)

Christopher A. Carmel (WA)

Mark A. Crossley (PA)

Roy S. Decker (KY)

Jeffrey Dockhorn (NJ)

Danny Estrella (NY)

Robert J. Fabbro (MN)

Nicholas A. Fenty (NC)

Eusebio J. Fernandez-Caba (NJ)

Jeffrey D. Firme (CO)

Javier G. Gonzales (CO)

Gregory F. Gradisek (OH)

Jennifer L. Groth (CO)

Matthew S. Helm (PA)

Justin R. Hetherington (MN)

Bryant C. Kongsted (MD)

Joseph V. Kozak (NJ)

Randall A. Mercer (MA)

Alice J. Mitchell (LA)

Pablo G. Montez (TX)

Bruno Morelli (PA)

Thomas L. Nichols (WA)

Terry Nihart (PA)

Gil J. Pablo (CA)

Manuel Perales-Ferretiz (GA)

Berkley Pridgen (NC)

Jose N. Ramirez (TX)

Tommy R. Reeves (AR)

Henry A. Reyenga (CA)

David M. Sheeran (NY)

Linda Smith (WA)

Leonard A.G. Stary (KS)

Gary S. Stasiowski (MA)

Jordan A. Teets (PA)

Steven A. Travers (MA)

Bobby T. Trussell (MO)

Charles T. Watts (TN)

William J. Weber (CO)

John G. Weinhofer (PA)

Charles D. Zahn (FL)

The following 14 applicants have had more than one hypoglycemic episode requiring hospitalization or the assistance of others, or has had one such episode but has not had one year of stability following the episode:

Kenneth E. Brogden (NC)

Kevin E. Cooke (NC)

Lawrence G. Difolco (NJ)

Daniel E. Dingley (ME)

Richard S. Feicht (PA)

Raymond J. Freeman (TX)

Dana L. Guest (TN)

Anthony M. Hamilton (MO)

Parkinson B. James (NY)

Kevin R. Kerrigan (MI)

Ryan A. McCorkle (ID)

Russell D. Millican (OK)

Henry H. Rowen (MO)

Joseph A. Silva (MA)

The following two applicants had other medical conditions making the applicant otherwise unqualified under the Federal Motor Carrier Safety Regulations:

Manuel R. Arciniega (NM)

Scott N. Clark (IA)

The following four applicants did not have endocrinologists willing to make statements that they are able to operate CMVs from a diabetes standpoint:

Rodney G. Barber (GA)

Donald L. Russell (MD)

Anthony Sandoval (DE)

Fritz A. Thomas (NY)

Sebastian H. Thomas (ME) is unable or has not demonstrated with willingness to properly monitor and manage his diabetes whether by a personal decision or medical inability.

The following three applicants have peripheral neuropathy or circulatory insufficiency of the extremities likely to interfere with the ability to operate a CMV:

Joseph F. Houska (MI)

Richard B. Maurer (PA)

Keith A. Shaffer (PA)

The following six applicants did not meet the minimum age criteria outlined in 49 CFR 391.41(b)(1) which states that an individual must be at least 21 years old to operate a CMV in interstate commerce:

Cody M. Burwell (SC)

Michael M. Dunkelberger (PA)

Robert L. Garcia (NM)

Caleb Strong (OR)

Blake A. Wing (MI)

Austin D. Yuill (IL)

The following 21 applicants were exempt from the diabetes standard:

Duane D. Bredin (WA)

Milton Burel (TX)

Jose L. Cortes (TX)

Timothy J. Dryml (IA)

Cindy E. Grimes (NE)

Gregory H. Harris (TX)

Anthony R. Howard (GA)

Kenneth D. Klein (WA)

Richard E. Lomicka (FL)

Kirby G. Lunsford (TX)

Thomas C. McGee (SC)

Henry J. Perry (NJ)

Jimmy D. Pharis (KY)

Michael A. Ralston (OH)

Wesley R. Schmid (CT)

Brett A. Smith (IN)

Kelly R. Toliver (CO)

Richard B. Walker (IN)

Wesley G. Walton (VA)

Anthony J. White (NY)

Spencer D. Wooden (WI)

Issued on: July 19, 2017.
Larry W. Minor,
Associate Administrator for Policy.

[FR Doc. 2017-15843 Filed 7-26-17; 8:45 am]

BILLING CODE 4910-EX-P